DEPARTMENT OF ENERGY

Federal Energy Regulatory Commission

[Docket No. RP01-438-001]

Kinder Morgan Interstate Gas Transmission LLC; Notice of Tariff Filing

June 14, 2001.

Take notice that on June 11, 2001, Kinder Morgan Interstate Gas Transmission LLC (KMIGT) tendered for filing as part of its FERC Gas Tariff, Fourth Revised Volume No. 1-A, the following tariff sheet, to be effective July 1, 2001:

Substitute Original Sheet No. 1480

KMIGT states that this tariff sheet is being submitted to clarify language in the original filing in this docket.

KMIGT states that a copy of this filing has been served upon all KMIGT customers and interested state commissions.

Any person desiring to protest said filing should file a protest with the Federal Energy Regulatory Commission, 888 first Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15501 Filed 6-19-01; 8:45 am]

BILLING CODE 6717-01-M